DEPARTMENT OF COMMERCE

National Oceanic and Atmospheric Administration

RIN 0648-XP99

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 3-day Atlantic Highly Migratory Species (HMS) Advisory Panel (AP) meeting in September 2009. The intent of the meeting is to consider options for the conservation and management of Atlantic HMS. The meeting is open to the public.

DATES: The AP meeting will be held from 1 p.m. to 5 p.m. on Wednesday, September 9, 2009, from 8 a.m. to 5 p.m. on Thursday, September 10, 2009, and from 8 a.m. to 2:30 p.m. on Friday, September 11, 2009.

ADDRESSES: The meeting will be held in Silver Spring, MD 20910.

FOR FURTHER INFORMATION CONTACT: Othel Freeman or Margo Schulze-Haugen at 301-713-2347.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for HMS. NMFS consults with and considers the comments and views of AP members when preparing and implementing FMPs or FMP amendments for Atlantic tunas, swordfish, billfish, and sharks. The AP has previously consulted with NMFS on: Amendment 1 to the Billfish FMP (April 1999), the HMS FMP (April 1999), Amendment 1 to the HMS FMP (December 2003), the Consolidated HMS FMP (October 2006), and Amendments 1, 2, and 3 to the Consolidated HMS FMP (April and October 2008, and February 2009). At the September 2009 AP meeting, NMFS plans to hold public hearings to discuss Amendments 3 and 4 to the 2006 Consolidated HMS FMP for small coastal sharks, and Caribbean fishery management measures, respectively, and for Atlantic bluefin tuna and swordfish based on an Advanced Notice of Proposed Rulemaking that published on June 1, 2009 (74 FR 26174). Other potential items for discussion include annual quota specifications for bluefin tuna, swordfish, and sharks, as well as the 2010 meeting of the International Commission for the Conservation of Atlantic Tunas.

Special Accommodations

This meeting is physically accessible to people with disabilities. Requests for sign language interpretation or other auxiliary aids should be directed to Othel Freeman at (301) 713-2347, at least 7 days prior to the meeting.

Dated: July 30, 2009.
Kristen C. Koch,
Acting Director, Office of Sustainable Fisheries, National Marine Fisheries Service.

[FR Doc. E9-18749 Filed 8-4-09; 8:45 am]

BILLING CODE 3510-22-S